DEPARTMENT OF DEFENSE

GENERAL SERVICES ADMINISTRATION

NATIONAL AERONAUTICS AND SPACE ADMINISTRATION

48 CFR Chapter 1

[Docket No. FAR-2020-0051, Sequence No. 8]

Federal Acquisition Regulation; Federal Acquisition Circular 2021-03; Small Entity Compliance Guide

AGENCY: Department of Defense (DoD), General Services Administration (GSA), and National Aeronautics and Space Administration (NASA).

ACTION: Small Entity Compliance Guide.

SUMMARY: This document is issued under the joint authority of DOD, GSA, and NASA. This Small Entity Compliance Guide has been prepared in accordance with section 212 of the Small Business Regulatory Enforcement Fairness Act of 1996. It consists of a summary of the rules appearing in Federal Acquisition Circular (FAC) 2021-03, which amends the Federal Acquisition Regulation (FAR). Interested parties may obtain further information regarding these rules by referring to FAC 2021-03, which precedes this document.

DATES: January 14, 2021.

ADDRESSES: The FAC, including the SECG, is available via the internet at https://www.regulations.gov.

FOR FURTHER INFORMATION CONTACT: For clarification of content, contact the analyst whose name appears in the table below. Please cite FAC 2021-03 and the FAR Case number. For information pertaining to status or publication schedules, contact the Regulatory Secretariat Division at 202-501-4755 or GSARegSec@gsa.gov. An asterisk (*) next to a rule indicates that a regulatory flexibility analysis has been prepared.

Rules Listed in FAC 2021-03
Item | Subject | FAR case | Analyst
* I | Violations of Arms Control Treaties or Agreements with the United States | 2017-018 | Jackson.
* II | Lowest Price Technically Acceptable Source Selection Process | 2018-016 | Jackson.
* III | Individual Sureties | 2017-003 | Delgado.
IV | Technical Amendments

SUPPLEMENTARY INFORMATION: Summaries for each FAR rule follow. For the actual revisions and/or amendments made by these FAR rules, refer to the specific item numbers and subjects set forth in the documents following these item summaries. FAC 2021-03 amends the FAR as follows:

Item I—Violations of Arms Control Treaties or Agreements With the United States (FAR Case 2017-018)

This final rule adopts as final with changes, an interim rule published on June 15, 2018. The interim rule amended the FAR to implement 22 U.S.C. 2593e, as added by section 1290 of the National Defense Authorization Act for Fiscal Year 2017 (Pub. L. 114-328). The final rule makes technical edits clarifying the suspension and debarment remedies for determination of a false certification pursuant to 22 U.S.C. 2593e, and other minor edits.

Item II—Lowest Price Technically Acceptable Source Selection Process (FAR Case 2018-016)

This final rule amends the FAR to implement section 880 of the John S. McCain National Defense Authorization Act for Fiscal Year 2019. Specifically, this rule amends: (1) FAR part 15 to specify the criteria that must be met in order to include lowest price technically acceptable (LPTA) source selection criteria in a solicitation, and require solicitations predominantly for the acquisition of certain services and supplies to avoid the use of LPTA source selection criteria, to the maximum extent practicable; and (2) FAR parts 12, 13, 16, and 37 to point to the text in FAR part 15, as applicable.

Item III—Individual Sureties (FAR Case 2017-003)

This final rule changes the kind of assets that an individual surety must pledge as security for an individual surety bond. A pledge of assets must consist only of eligible obligations, i.e., public debt obligations of the United States Government. The rule implements section 874 of the National Defense Authorization Act for Fiscal Year 2016 (Pub. L. 114-92), codified at 31 U.S.C. 9310, Individual Sureties.

This final rule will not have a significant economic impact on a substantial number of small entities.

Item IV—Technical Amendments

Editorial changes are made at FAR 2.101, 15.209, 17.502-1, 37.103, 52.212-3, 52.212-5, 52.213-4, 52.222-18, 52.223-3, 52.225-2, 52.225-4, 52.225-6, 52,225-9, 52.225-13, and 52.229-12.

William F. Clark,
Director, Office of Government-wide Acquisition Policy, Office of Acquisition Policy, Office of Government-wide Policy.

[FR Doc. 2020-29090 Filed 1-13-21; 8:45 am]

BILLING CODE 6820-EP-P